DEPARTMENT OF ENERGY

Worker Advocacy Advisory Committee Meeting

AGENCY: Department of Energy.

ACTION: Notice of open meeting.

SUMMARY: This notice announces a meeting of the Worker Advocacy Advisory Committee Meeting. The Federal Advisory Committee Act (Pub. L. No. 92-463, 86 Stat. 770), requires that public notice of the meetings be announced in the Federal Register.

DATE: Thursday, January 11, 2001, 9 am to 4:30 pm.

ADDRESSES: L'Enfant Plaza Hotel, 480 L'Enfant Plaza, Washington, DC.

FOR FURTHER INFORMATION CONTACT: Judy Keating, Executive Administrator, Worker Advocacy Advisory Committee, U.S. Department of Energy, EH-8, 1000 Independence Avenue, S.W., Washington, DC 20585, Telephone Number 202-586-7551, E-mail: Judy.Keating@eh.doe.gov.

SUPPLEMENTARY INFORMATION: Purpose of the Meeting: To provide advice to the Director of the Office of Worker Advocacy of the Department of Energy on plans, priorities, and strategies for in providing assistance to workers who have been diagnosed with work-related illnesses.

Tentative Agenda:

Welcome and Introduction

Opening Remarks

Role of the Advisory Committee

Status of the Energy Employees Occupational Illness Compensation Act of 2000

Status and direction of DOE worker advocacy efforts

Relationships with other federal agencies

Public comment

Next Steps/Path Forward

Public Participation: The meeting is open to the public on a first-come, first-serve basis because of limited seating. Written statements may be filed with the committee before or after the meeting. Members of the public who wish to make oral statements pertaining to agenda items should contact Judy Keating at the address or telephone listed above. Requests to make oral statements must be made and received five days prior to the meeting; reasonable provision will be made to include the statement in the agenda. The Chair of the committee is empowered to conduct the meeting in a fashion that will facilitate the orderly conduct of business.

Minutes: The minutes of this meeting will be available for public review and copying at the Freedom of Information Reading Room, 1E-190, Forrestal Building, 1000 Independence Avenue, SW., Washington, DC, between 9 a.m. and 4 p.m., Monday through Friday, except holidays.

Issued in Washington, DC, on December 18, 2000.
Rachel M. Samuel,
Deputy Advisory Committee Management Officer.

[FR Doc. 00-32683 Filed 12-21-00; 8:45 am]

BILLING CODE 6450-01-P